COMMISSION ON CIVIL RIGHTS

Notice of Public Meetings of the Indiana Advisory Committee to the U.S. Commission on Civil Rights

AGENCY: Commission on Civil Rights.

ACTION: Notice of virtual panel briefings.

SUMMARY: Notice is hereby given, pursuant to the provisions of the rules and regulations of the U.S. Commission on Civil Rights (Commission) and the Federal Advisory Committee Act, that the Indiana Advisory Committee (Committee) to the U.S. Commission on Civil Rights will hold two panel briefings via Zoom. The purpose of these briefings is to hear testimony on hate crime nationally and in Indiana.

DATES:

• PANEL I: Thursday, June 20, 2024, from 2:00 p.m.-4:00 p.m. Eastern Time

• PANEL II: Thursday, June 27, 2024, from 2:00 p.m.-4:00 p.m. Eastern Time

ADDRESSES: These briefings will be held via Zoom.

PANEL I:

• Registration Link (Audio/Visual): https://bit.ly/3K15cjD

• Join by Phone (Audio Only): 1-833-435-1820 USA Toll Free; Webinar ID: 160 647 5297#

PANEL II:

• Registration Link (Audio/Visual): https://bit.ly/4dCbpjF

• Join by Phone (Audio Only): 1-833-435-1820 USA Toll Free; Webinar ID: 161 330 9935#

FOR FURTHER INFORMATION CONTACT: Ivy Davis, Director of Eastern Regional Office and Designated Federal Officer, at ero@usccr.gov or 1-202-539-8468.

SUPPLEMENTARY INFORMATION: These Committee meetings are available to the public through the registration link above. Any interested members of the public may attend these meetings. Before adjourning each meeting, the Chair will recognize members of the public to make brief oral statements, as time allows. Pursuant to the Federal Advisory Committee Act, public minutes of the meeting will include a list of persons who are present at these meetings. If joining via phone, callers can expect to incur regular charges for calls they initiate over wireless lines, according to their wireless plans. The Commission will not refund any incurred charges. Callers will incur no charge for calls they initiate over land-line connections to the toll-free telephone number. Closed captioning is available by selecting “CC” in the meeting platform. To request additional accommodations, please email svillanueva@usccr.gov at least 10 business days prior to each meeting.

Members of the public are entitled to submit written comments; the comments must be received in the regional office within 30 days following the scheduled meeting. Written comments may be emailed to Ivy Davis at ero@usccr.gov; please include Indiana Committee in the subject line of the transmitting email. Persons who desire additional information may contact the Regional Programs Coordination Unit at 1-202-539-8468.

Records generated from these meetings may be inspected and reproduced at the Regional Programs Coordination Unit Office, as they become available, both before and after each meeting. Records of the meetings will be available via www.facadatabase.gov under the Commission on Civil Rights, Indiana Advisory Committee link. Persons interested in the work of this Committee are directed to the Commission's website, http://www.usccr.gov, or may contact the Regional Programs Coordination Unit at svillanueva@usccr.gov.

Agenda

I. Welcoming Remarks

II. Panelist Presentations

III. Committee Q&A

IV. Public Comment

V. Adjourn

Dated: May 16, 2024.
David Mussatt,
Supervisory Chief, Regional Programs Unit.

[FR Doc. 2024-11119 Filed 5-20-24; 8:45 am]

BILLING CODE P